DEPARTMENT OF LABOR

Comment Request for Information Collection for Petition and Investigative Forms To Assess Group Eligibility for Trade Adjustment Assistance (OMB Control No. 1205-0342), Extension

AGENCY: Employment and Training Administration.

ACTION: Notice.

SUMMARY: The Department of Labor, as part of its continuing effort to reduce paperwork and respondent burden, conducts a preclearance consultation program to provide the general public and federal agencies with an opportunity to comment on proposed and/or continuing collections of information in accordance with the Paperwork Reduction Act of 1995 [44 U.S.C. 3506(c)(2)(A)]. This program helps to ensure that requested data can be provided in the desired format, reporting burden (time and financial resources) is minimized, collection instruments are clearly understood, and the impact of collection requirements on respondents can be properly assessed. In response to Section 221(a) of Title II, Chapter 2 of the Trade Act of 1974, as amended by the American Recovery and Reinvestment Act (ARRA), the Employment and Training Administration is soliciting comments concerning the extension of the Petition and Investigative Forms to Assess Group Eligibility for Trade Adjustment Assistance, OMB Control No. 1205-0342, which expires November 30, 2009. This notice utilizes standard clearance procedures in accordance with the Paperwork Reduction Act of 1995 and 5 CFR 1320.12. This information collection follows an emergency review that was conducted in accordance with the Paperwork Reduction Act of 1995 and 5 CFR 1320.13. The submission for OMB emergency review was published in the Federal Register on April 29, 2009, see 74 FR 19602. OMB approved the emergency clearance under OMB control number 1205-0342 on May 15, 2009. A copy of this ICR can be obtained from the RegInfo.gov Web site at http://www.reginfo.gov/public/do/PRAMain.

DATES: Written comments must be submitted to the office listed in the addressee's section below on or before August 17, 2009.

ADDRESSES: Susan Worden, U.S. Department of Labor, Employment and Training Administration, Room C-5428, 200 Constitution Avenue, NW., Washington, DC 20210. Phone: 202-693-3517, Fax: 202-693-3584, E-mail: worden.susan@dol.gov.

SUPPLEMENTARY INFORMATION: I. Background: On February 17, 2009, the President signed into law the American Recovery and Reinvestment Act (ARRA). Section 221(a) of Title II, Chapter 2 of the Trade Act of 1974, as amended by ARRA (19 U.S.C. 2271), authorizes the Secretary of Labor and the Governor of each State to accept petitions for certification of eligibility to apply for adjustment assistance. ARRA amended Section 222 of the Trade Act of 1974 to provide for new eligibility criteria designed to expand the number of petitioning worker groups assessed as adversely affected by trade and therefore determined eligible to apply for Trade Adjustment Assistance. To solicit the data needed to address the new eligibility criteria, ETA significantly expanded the petition and investigation forms under OMB No. 1205-0342.

The Forms ETA-9042 Petition for Trade Adjustment Assistance and its Spanish translation, and ETA-9042a Solicitud De Asistencia Para Ajuste, established a format for filing such petitions. The Department's regulations regarding petitions for worker adjustment assistance may be found at 29 CFR 90. Investigative forms designed to assess eligibility are undertaken in accordance with sections 222, 223 and 249 of the Trade Act of 1974, as amended (19 U.S.C., 2272 and 2273), are used by the Secretary of Labor to certify groups of workers as eligible to apply for worker trade adjustment assistance. The Forms include: ETA-9043a—Business Confidential Data Request Firms that Produce an Article (CDR-A); ETA-9043b—Business Confidential Data Request Firms that Supply a Service (CDR-S); ETA-9043c—Business Confidential Data Request Firms Who Work on a Contractual Basis; ETA-8562a—Business Confidential Customer Survey; ETA-8562a—Business Confidential Customer Survey; ETA-8562a—Business Confidential Customer Survey First Tier Purchases of Articles; ETA-8562a-1—Business Confidential Customer Survey Second Tier Purchases of Articles; ETA-8562b—Business Confidential Customer Survey Services; ETA-8562c—Business Confidential Customer Survey Firms who Work on a Contractual Basis; ETA-8562d—Business Confidential Customer Survey; and ETA-9118—Business Confidential Information Request.

II. Review Focus:

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

III. Current Actions:

Type of Review: Extension.

Title: Investigative Data Collection Requirements for the Trade Act of 1974 as amended by the Trade and Globalization Adjustment Assistance Act of 2009.

OMB Number: 1205-0432.

Affected Public: Individuals or households; businesses or other for profits; and State, Local or Tribal Governments.

Forms: ETA-9042, 9042a, 9043a, 9043b, 9043c, 9118, 8562a, 8562b, 8562c, 8562d.

Total Respondents: 6916.

Frequency: Once.

Total Responses: 85675.

Average Time per Response: 2.22 Hours.

Estimated Total Burden Hours: 18642.

Total Burden Cost (operating/maintaining): $0.

Comments submitted in response to this comment request will be summarized and/or included in the request for Office of Management and Budget approval of the information collection request; they will also become a matter of public record.

Dated: June 10, 2009.
Erin FitzGerald,
Program Manager, Division of Trade Adjustment Assistance, Office of National Response, Employment and Training Administration.

[FR Doc. E9-14337 Filed 6-17-09; 8:45 am]

BILLING CODE 4510-FN-P